DEPARTMENT OF HEALTH AND HUMAN SERVICES

Centers for Disease Control and Prevention

National Center for Environmental Health/Agency for Toxic Substances and Disease Registry

The Community and Tribal Subcommittee (CTS) of the Board of Scientific Counselors (BSC), Centers for Disease Control and Prevention (CDC), National Center for Environmental Health/Agency for Toxic Substances and Disease Registry (NCEH/ATSDR): Teleconference.

In accordance with section 10(a)(2) of the Federal Advisory Committee Act (Pub. L. 92-463), CDC, NCEH/ATSDR announces the following subcommittee meeting:

Name: Community and Tribal Subcommittee (CTS).

Time and Date: 1 p.m.-2:30 p.m., February 27, 2006.

Place: The teleconference will originate at NCEH/ATSDR in Atlanta, Georgia. Please see Supplementary Information for details on accessing the teleconference.

Status: Open to the public, teleconference access limited only by availability of telephone ports.

Purpose: Under the charge of the BSC, NCEH/ATSDR the CTS will provide the board with a forum for community and tribal first-hand perspectives on the interactions and impacts of the NCEH/ATSDR's national and regional policies, practices, and programs.

Matters To Be Discussed: The agenda will include a review of the draft coordinating center Environmental Justice Policy; a report on coordination efforts with the Program Peer Review Subcommittee; and a review and comment period on recently completed agency-funded programs related to health disparities and environmental justice communities. The public comment period will be from 2-2:15 p.m.

Items are subject to change as priorities dictate.

Supplementary Information:

To participate in the teleconference, please dial 877/315-6535 and enter conference code 383520.

Contact Person for More Information: Sandra Malcom, Committee Management Specialist, Office of Science, NCEH/ATSDR, M/S E-28, 1600 Clifton Road, NE., Atlanta, Georgia 30333, telephone 404/498-0003.

The Director, Management Analysis and Services Office, has been delegated the authority to sign Federal Register notices pertaining to announcements of meetings and other committee management activities for both CDC and ATSDR.

Dated: February 2, 2006.
Diane Allen,
Acting Director, Management Analysis and Services Office, Centers for Disease Control and Prevention.

[FR Doc. E6-1676 Filed 2-7-06; 8:45 am]

BILLING CODE 4163-18-P